DEPARTMENT OF ENERGY

Federal Energy Regulatory Commission

[Project No. 1858-023]

Beaver City Corporation; Notice of Intent To Prepare an Environmental Assessment

On July 30, 2021, Beaver City Corporation (Beaver City) filed an application for a subsequent minor license for the 625-kilowatt (kW) Beaver City Canyon Plant No. 2 Hydroelectric Project (Beaver City Project; FERC No. 1858). The Beaver City Project is located on the Beaver River, in Beaver County, Utah, about 5 miles east of the city of Beaver. The project currently occupies 10.2 acres of federal land administered by the U.S. Forest Service and 2.4 acres of federal land managed by the U.S. Bureau of Land Management. As proposed, the project would occupy an additional 0.3 acre of federal land administered by the U.S. Forest Service. As part of its relicensing proposal, Beaver City proposes to increase the generating capacity of the Beaver City Project from 625 to 720 kW.

In accordance with the Commission's regulations, on June 13, 2022, Commission staff issued a notice that the project was ready for environmental analysis (REA Notice). Based on the information in the record, including comments filed on the REA Notice, staff does not anticipate that licensing the project would constitute a major federal action significantly affecting the quality of the human environment. Therefore, staff intends to prepare an Environmental Assessment (EA) on the application to relicense the Beaver City Project.

The EA will be issued and circulated for review by all interested parties. All comments filed on the EA will be analyzed by staff and considered in the Commission's final licensing decision.

The application will be processed according to the following schedule. Revisions to the schedule may be made as appropriate.

Milestone | Target date
Commission issues Single EA | August 2023.¹
Comments on Single EA | September 2023.
¹ The Council on Environmental Quality's (CEQ) regulations under 40 CFR 1501.10(b)(1) require that EAs be completed within 1 year of the federal action agency's decision to prepare an EA. This notice establishes the Commission's intent to prepare a Single EA for the Beaver City Project. Therefore, in accordance with CEQ's regulations, the EA must be issued within 1 year of the issuance date of this notice.

Any questions regarding this notice may be directed to Evan Williams at (202) 502-8462 or evan.williams@ferc.gov.

Dated: August 29, 2022.
Kimberly D. Bose,
Secretary.

[FR Doc. 2022-19059 Filed 9-1-22; 8:45 am]

BILLING CODE 6717-01-P